DEPARTMENT OF THE INTERIOR

Fish and Wildlife Service

Request for Information and Recommendations on Resolutions, Decisions, and Agenda Items for Consideration at the Twelfth Regular Meeting of the Conference of the Parties to the Convention on International Trade in Endangered Species of Wild Fauna and Flora

AGENCY: Fish and Wildlife Service, Interior.

ACTION: Notice; request for information.

SUMMARY: This notice is a scoping document that solicits recommendations for resolutions, decisions, and agenda items for discussion at the twelfth regular meeting of the Conference of the Parties (COP12) to the Convention on International Trade in Endangered Species of Wild Fauna and Flora (CITES). We invite you to provide us with information and recommendations on possible resolutions, decisions, and agenda items for discussion at the upcoming meeting.

DATES: We will consider all information and comments received by September 24, 2001.

ADDRESSES: Send correspondence pertaining to resolutions, decisions, and agenda items to the Division of Management Authority; U.S. Fish and Wildlife Service; 4401 North Fairfax Drive; Room 700; Arlington, Virginia 22203, or via E-mail at: fw9ia_cites@fws.gov. Comments and materials received will be available for public inspection, by appointment, from 8 a.m. to 4 p.m., Monday through Friday, at the Division of Management Authority. Information on species listing issues or scientific issues pertaining to CITES is available from the Division of Scientific Authority; U.S. Fish and Wildlife Service; 4401 North Fairfax Drive; Room 750; Arlington, Virginia 22203, or via E-mail at: fw9ia_dsa@fws.gov.

FOR FURTHER INFORMATION CONTACT: Andrea Gaski, Chief, Division of Management Authority, Branch of CITES Operations, phone 703/358-2095, fax 703/358-2298, E-mail: fw9ia_cites@fws.gov.

SUPPLEMENTARY INFORMATION:

Background

The Convention on International Trade in Endangered Species of Wild Fauna and Flora, hereinafter referred to as CITES, is an international treaty designed to control and regulate international trade in certain animal and plant species that are now or potentially may be threatened with extinction. These species are listed in Appendices to CITES, copies of which are available from the Division of Management Authority at the above address or from our Website at http://www.international.fws.gov/pdf/appendices.pdf. Currently, 154 countries, including the United States, are Parties to CITES. CITES calls for biennial meetings of the Conference of the Parties, which review its implementation, make provisions enabling the CITES Secretariat in Switzerland to carry out its functions, consider amendments to the list of species in Appendices I and II, consider reports presented by the Secretariat, and make recommendations for the improved effectiveness of CITES. Any country that is a Party to CITES may propose amendments to Appendices I and II, resolutions, decisions, and/or agenda items for consideration by the other Parties.

This is our second in a series of Federal Register notices which, together with announced public meetings, provide you with an opportunity to participate in the development of the United States' negotiating positions for the twelfth regular meeting of the Conference of the Parties to CITES (COP12). We published our first such Federal Register notice on June 12, 2001 (66 FR 31686), and with it we requested information and recommendations on potential species amendments for the United States to consider submitting for discussion at COP12. Information on that Federal Register notice, and on species amendment proposals, is available from the Division of Scientific Authority at the above address. Our regulations governing this public process are found in 50 CFR §§ 23.31-23.39.

In our Federal Register notice of June 12, 2001, we announced that COP12 is scheduled to be held in November 2002, in Santiago, Chile. Once the CITES Secretariat notifies the CITES Parties of the exact dates when the meeting will be held, we will publish this information in a future Federal Register notice. We will also post that information on our Website, for your benefit.

Request for Recommendations on Resolutions and Agenda Items

Although we have not yet received formal notice of the provisional agenda for COP12, we invite your input on possible agenda items the United States could recommend for inclusion, or on possible resolutions and/or decisions of the Conference of the Parties that the United States could submit. Copies of the agenda for the last meeting of the Conference of the Parties (COP11) in Gigiri, Kenya, in April 2000, as well as copies of all resolutions and decisions of the Conference of the Parties currently in effect, are available from the Division of Management Authority at the above address. Copies of a list of species proposals adopted at COP11 are available from the Division of Scientific Authority at the above address. The results of COP11 with regard to species proposals, resolutions, and decisions, along with other information pertaining to COP11, are available on our Website at: http://international.fws.gov/cop11/cop11.html.

Observers

Article XI, paragraph 7 of CITES provides: “Any body or agency technically qualified in protection, conservation or management of wild fauna and flora, in the following categories, which has informed the Secretariat of its desire to be represented at meetings of the Conference by observers, shall be admitted unless at least one-third of the Parties present object:

(a) International agencies or bodies, either governmental or non-governmental, and national governmental agencies and bodies; and

(b) National non-governmental agencies or bodies which have been approved for this purpose by the State in which they are located.

Once admitted, these observers shall have the right to participate but not to vote.”

National agencies or organizations within the United States must obtain our approval to participate in COP12, while international agencies or organizations must obtain approval directly from the CITES Secretariat. We will publish information in a future Federal Register notice on how to request approved observer status. A fact sheet on the process is posted on our Website at: http://international.fws.gov/pdt/ob.pdf.

Future Actions

The next regular meeting of the Conference of the Parties (COP12) is scheduled to be held in November 2002, in Santiago, Chile. We have developed a tentative U.S. schedule to prepare for that meeting. The United States must submit any proposals to amend Appendix I or II, or any draft resolutions, decisions, and/or agenda items for discussion at COP12, to the CITES Secretariat 150 days prior to the start of the meeting. In order to accommodate this deadline, we plan to publish a Federal Register notice approximately 10 months prior to COP12 announcing tentative species proposals, draft resolutions, draft decisions, and agenda items to be submitted by the United States, and to solicit further information and comments on them.

Approximately 9 months prior to COP12, we will hold a public meeting to allow for additional public input. Approximately 4 months prior to COP12, we will post on our Website an announcement of the species proposals, draft resolutions, draft decisions, and agenda items submitted by the United States to the CITES Secretariat. The deadline for submission of the proposals, draft resolutions, draft decisions and agenda items to the Secretariat is expected to be sometime around June 7, 2002.

Through a series of additional notices and Website postings in advance of COP12, we will inform you about preliminary negotiating positions on resolutions, decisions, and amendments to the Appendices proposed by other Parties for consideration at COP12, and about how to obtain observer status from us. We will also publish announcements of public meetings expected to be held approximately 9 months prior to COP12, and approximately 2 months prior to COP12, to receive public input on our positions regarding COP12 issues.

Author

This notice was prepared by Mark Albert, Division of Management Authority, under the authority of the U.S. Endangered Species Act of 1973, as amended (16 U.S.C. 1531 et seq.).

Dated: June 27, 2001.
Marshall P. Jones Jr.,
Director.

[FR Doc. 01-18559 Filed 7-24-01; 8:45 am]

BILLING CODE 4310-55-P